DEPARTMENT OF ENERGY

Federal Energy Regulatory Commission

[Docket No. ER00-3591-006, et al.]

New York Independent System Operator, Inc., et al.; Electric Rate and Corporate Regulation Filings

April 19, 2001.

Take notice that the following filings have been made with the Commission:

1. New York Independent System Operator, Inc.

[Docket Nos. ER00-3591-006, ER00-1969-007]

Take notice that on April 13, 2001, the New York Independent System Operator, Inc. (NYISO) tendered for filing revisions to its Market Administration and Control Area Services Tariff (Services Tariff) in order to implement locational reserve pricing, pursuant to the Commission's order issued on March 29, 2001 in the above-captioned dockets. The NYISO has requested an effective date of May 1, 2001 for the filing.

The NYISO has served a copy of this filing upon parties on the official service lists maintained by the Commission for the above-captioned dockets.

Comment date: May 4, 2001, in accordance with Standard Paragraph E at the end of this notice.

2. Consolidated Edison Company of New York, Inc.

[Docket No. ER01-160-003]

Take notice that on April 16, 2001, Consolidated Edison Company of New York, Inc. (Con Edison) tendered for filing a conformed rate schedule in the above-listed docket.

Con Edison states that a copy of this filing has been served upon O&R.

Comment date: May 7, 2001, in accordance with Standard Paragraph E at the end of this notice.

3. Consolidated Edison Company of New York, Inc.

[Docket No. ER01-161-003]

Take notice that on April 16, 2001, Consolidated Edison Company of New York, Inc. (Con Edison) tendered for filing a conformed rate schedule in the above-listed docket.

Con Edison states that a copy of this filing has been served by mail upon Central Hudson

Comment date: May 7, 2001, in accordance with Standard Paragraph E at the end of this notice.

4. Magnolia Energy LP

[Docket No. ER01-1335-001]

Take notice that on April 16, 2001, Magnolia Energy LP tendered for filing its FERC Electric Tariff, Original Volume No. 1 in compliance with the Commission's April 5, 2001, Order in the above-referenced docket.

Comment date: May 7, 2001, in accordance with Standard Paragraph E at the end of this notice.

5. Idaho Power Company

[Docket No. ER01-1802-000]

Take notice that on April 13, 2001, Idaho Power Company (IPC) tendered for filing a supplemental filing of their April 3, 2001 filing to conform with the Commission's Order No. 614, a Service Agreement under Idaho Power Company FERC Electric Tariff No. 6, Market Rate Power Sales Tariff, between Idaho Power Company and Public Utility District No. 1 of Cowlitz County, Washington.

Comment date: May 4, 2001, in accordance with Standard Paragraph E at the end of this notice.

6. Southwest Power Pool, Inc.

[Docket No. ER01-1803-000]

Take notice that on April 13, 2001, Southwest Power Pool, Inc. (SPP) tendered for filing executed service agreements for Firm Point-to-Point Transmission Service, Non-Firm Point-to-Point Transmission Service, and Loss Compensation Service with Ameren Energy, Inc. and Ameren Energy Marketing Company. SPP seeks an effective date of April 2, 2001 for these agreements.

Copies of this filing have been served on the Transmission Customers.

Comment date: May 4, 2001, in accordance with Standard Paragraph E at the end of this notice.

7. Warren Power, LLC

[Docket No. ER01-1804-000]

Take notice that on April 13, 2001, Warren Power, LLC tendered for filing an application for authorization to sell power at market-based rates. Copies of this filing have been served on the Arkansas Public Service Commission, Mississippi Public Service Commission, Louisiana Public Service Commission, Texas Public Utility Commission, and the Council of the City of New Orleans.

Comment date: May 4, 2001, in accordance with Standard Paragraph E at the end of this notice.

8. Southern Company Services, Inc.

[Docket No. ER01-1805-000]

Take notice that on April 16, 2001, Southern Company Services, Inc., acting on behalf of Alabama Power Company (APC), tendered for filing Amendment No. 1 to the interconnection agreement between Tenaska Alabama II Partners, L.P. (Tenaska) and APC. The amendment concerns transmission facility upgrades for a generator that Tenaska will interconnect to APC's electric system. An effective date of March 26, 2001 has been requested.

Comment date: May 7, 2001, in accordance with Standard Paragraph E at the end of this notice.

9. UtiliCorp United Inc.

[Docket No. ER01-1806-000]

Take notice that on April 16, 2001, UtiliCorp United Inc. (UtiliCorp), tendered for filing pursuant to Section 205 of the Federal Power Act, 16 U.S.C. § 824d, and Part 35 of the Commission's regulations, 18 C.F.R. § 35, a revised rate schedule providing for Purchases of Electricity from Non-QF Small Independent Power Producers.

Comment date: May 7, 2001, in accordance with Standard Paragraph E at the end of this notice.

10. Carolina Power & Light Company

[Docket No. ER01-1807-000]

Take notice that on April 16, 2001, Carolina Power & Light Company (CP&L), tendered for filing a modification to the joint Open Access Transmission Tariff of Carolina Power & Light Company (CP&L) and Florida Power Corporation, FERC Electric Tariff Original Volume No. 1, that modifies the charges for Energy Imbalance Service for loads located in the in the CP&L Zone. CP&L requests that the Commission waive its notice of filing requirements and permit the modifications to take effect on June 1, 2001.

Comment date: May 7, 2001, in accordance with Standard Paragraph E at the end of this notice.

11. Idaho Power Company

[Docket No. ER01-1808-000]

Take notice that on April 16, 2001, Idaho Power Company tendered for filing a Service Agreement for Firm and Non-Firm Point-to-Point Transmission Service between Idaho Power Company and Nevada Power under its open access transmission tariff in the above-captioned proceeding.

Comment date: May 7, 2001, in accordance with Standard Paragraph E at the end of this notice.

12. Idaho Power Company

[Docket No. ER01-1809-000]

Take notice that on April 16, 2001, Idaho Power Company tendered for filing a Service Agreement for Firm and Non-Firm Point-to-Point Transmission Service between Idaho Power Company and Portland General Electric under its open access transmission tariff in the above-captioned proceeding.

Comment date: May 7, 2001, in accordance with Standard Paragraph E at the end of this notice.

13. Pierce Power LLC

[Docket No. EG01-190-000]

Take notice that on April 12, 2001, Pierce Power LLC (Pierce Power), a limited liability company organized under the laws of the state of Delaware, filed with the Federal Energy Regulatory Commission (Commission) an application for determination of exempt wholesale generator status pursuant to Part 365 of the Commission's regulations.

Pierce Power states that it will be engaged directly and exclusively in the business of owning or operating a 150 MW electric generating facility and related assets in Tacoma, Washington. Pierce Power will sell its capacity exclusively at wholesale. A copy of the filing was served upon the Securities and Exchange Commission and the Washington Utilities and Transportation Commission.

Comment date: May 10, 2001, in accordance with Standard Paragraph E at the end of this notice. The Commission will limit its consideration of comments to those that concern the adequacy or accuracy of the application.

14. Panda Montgomery Power, L.P.

[Docket No. EG01-191-000]

Take notice that on April 13, 2001, Panda Montgomery Power, L.P. (Panda), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda is a Delaware limited partnership, which will construct, own and operate a nominal 1100 MW natural gas-fired generating facility within the region governed by the Mid-American Interconnected Network, Inc. (MAIN) and sell electricity at wholesale.

Comment date: May 10, 2001, in accordance with Standard Paragraph E at the end of this notice. The Commission will limit its consideration of comments to those that address the adequacy or accuracy of the application.

15. The Detroit Edison Company

[Docket No. ES01-30-000]

Take notice that on April 16, 2001, The Detroit Edison Company (Detroit Edison) submitted an application pursuant to section 204 of the Federal Power Act seeking authorization to issue short-term debt securities and promissory notes bearing final maturities of no more than 2 years in an amount not to exceed $1 billion, from time to time, on or before May 31, 2003.

Detroit Edison also requests a waiver of the Commission's competitive bidding and negotiated placement requirements at 18 CFR 34.2.

Comment date: May 10, 2001, in accordance with Standard Paragraph E at the end of this notice.

16. The Detroit Edison Company

[Docket Nos. EL01-51-002 and ER01-1649-002]

Take notice that on April 16, 2001, The Detroit Edison Company (Detroit Edison) tendered for filing with the Federal Energy Regulatory Commission (Commission) a revised Distribution Interconnection Agreement between Detroit Edison and Dearborn Industrial Generation, L.L.C. Detroit Edison requests the Commission to disclaim jurisdiction over the Distribution Interconnection Agreement.

In the event the Commission determines the Distribution Interconnection Agreement to be subject to its jurisdiction, Detroit Edison requests that the Commission accept it for filing effective as of March 14, 2001.

Comment date: May 7, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10311 Filed 4-25-01; 8:45 am]

BILLING CODE 6717-01-P